DEPARTMENT OF HEALTH AND HUMAN SERVICES

National Institutes of Health

National Institute of Nursing Research; Amended Notice of Meeting

Notice is hereby given of a change in the meeting of the National Institute of Nursing Research Special Emphasis Panel, November 12, 2003, 8 a.m. to November 13, 2003, 5 p.m., Bethesda Marriott, 5151 Pooks Hill Road, Bethesda, MD, 20814 which was published in the Federal Register on October 3, 2003, FR67; 192;57473-57474.

The meeting will be held at the Bethesda Marriott Suites at 6711 Democracy Blvd., Bethesda, Maryland. The meeting is closed to the public.

Dated: November 20, 2003.
LaVerne Y. Stringfield,
Director, Office of Federal Advisory Committee Policy.

[FR Doc. 03-29479 Filed 11-25-03; 8:45 am]

BILLING CODE 4140-01-M